INTERNATIONAL TRADE COMMISSION

[Investigation No. 337-TA-1399 (Rescission)]

Certain Fiber-Optic Connectors, Adapters, Jump Cables, Patch Cords, Products Containing the Same, and Components Thereof; Notice of Commission Determination To Institute a Rescission Proceeding; Rescission of Three Consent Orders; Terminations of the Rescission Proceeding

AGENCY: U.S. International Trade Commission.

ACTION: Notice.

SUMMARY: Notice is hereby given that the U.S. International Trade Commission has determined to institute a rescission proceeding and to grant a petition to rescind three consent orders issued in the underlying investigation. The rescission proceeding is terminated.

FOR FURTHER INFORMATION CONTACT: Robert Needham, Office of the General Counsel, U.S. International Trade Commission, 500 E Street SW, Washington, DC 20436, telephone (202) 708-5468. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On April 26, 2024, the Commission instituted this investigation based on a complaint, as supplemented, filed on behalf of US Conec, Ltd., of Hickory, North Carolina (“US Conec”). 89 FR 32459-60 (Apr. 26, 2024). The complaint alleged violations of section 337 of the Tariff Act of 1930, as amended, 19 U.S.C. 1337, based upon the importation into the United States, the sale for importation, and the sale within the United States after importation of certain fiber-optic connectors, adapters, jump cables, patch cords, products containing the same, and components thereof that infringe certain claims of U.S. Patent Nos. 11,733,466; 11,808,994; 11,906,794; 11,880,075; 11,385,415 and 10,495,823. Id. at 32459. The complaint also alleged that a domestic industry exists. Id. The Commission's notice of investigation names as respondents Senko Advance Co., Ltd. of Yokkaichi City, Japan and Senko Advanced Components, Inc. of Hudson, Massachusetts (“the Senko Respondents”); Eaton Corp. of Dublin, Ireland; Tripp Lite Holdings, Inc. of Woodridge, Illinois; FS.com Inc. of New Castle, Delaware; Infinite Electronics, Inc. of Irvine, California; L-com, Inc. of North Andover, Massachusetts; Sumitomo Electric Industries, Ltd. of Osaka, Japan; Sumitomo Electric Lightwave Corp. of Raleigh, North Carolina; Sumitomo Electric U.S.A., Inc. of Torrance, California; EZconn Corp. of New Taipei City, Taiwan; Flexoptix GmbH of Darmstadt, Germany; Shenzhen UnitekFiber Solution Ltd. of Shenzhen, China; Hubbell Inc. of Shelton, Connecticut; Hubbell Premise Wiring, Inc. of Shelton, Connecticut; Shenzhen IH Optics Co., Ltd. of Shenzhen, China; Rayoptic Communication Co., Ltd., of Shenzhen, China; and HuNan Surfiber Technology Co., Ltd. of Changsha, China. Id. at 32460. The Office of Unfair Import Investigations (“OUII”) participated in this investigation. Id.

The investigation was terminated with respect to all respondents based on the entry of consent orders, settlement, or the withdrawal of the complaint. As relevant to the petition for rescission, The Commission previously terminated the investigation in part based on the entry of consent orders with respect to the following respondents: FS.com Inc., Order No. 15 (Jun. 25, 2024), unreviewed by Comm'n Notice (Jul. 24, 2024); Shenzhen IH Optics Co., Ltd., Order No. 16 (Jun. 26, 2024), unreviewed by Comm'n Notice (Jul. 24, 2024); Flexoptix GmbH, Order No. 17 (Jun. 26, 2024), unreviewed by Comm'n Notice (Jul. 24, 2024). The Commission also previously terminated the investigation in part based on settlement with respect to the Senko Respondents. Order No. 34 (Sept. 24, 2024), unreviewed by Comm'n Notice (Oct. 11, 2024)

On October 2, 2024, US Conec and the Senko Respondents jointly petitioned the Commission to rescind the consent orders issued against the following respondents: Shenzhen IH Optics Co., Flexoptics GmbH, and FS.Com Inc. (“the Consent Order Respondents”). US Conec and the Senko Respondents argue that the settlement agreement between US Conec and the Senko Respondents authorized the Consent Order Respondents to conduct the activities prohibited by the respective consent orders, and that such authorization was a change in fact warranting a rescission of those consent orders. They also represented that other than the settlement agreement between US Conec and the Senko Respondents, “there are no other agreements, written or oral, express or implied between the parties concerning the subject matter of the investigation.” Petition at 1-2. On October 15, 2024, OUII filed a response supporting the petition to rescind the three consent orders. No other responses to the petition were filed.

Having reviewed US Conec's and the Senko Respondents' unopposed petition seeking to rescind the consent orders, and OUII's response, the Commission has determined to institute a recission proceeding and finds that the conditions which led to the issuance of the consent orders no longer exist. The Commission, therefore, finds that granting the petition to rescind those three consent orders is warranted under section 337(k)(1) (19 U.S.C. 1337(k)(1)). The Commission also finds that the requirements of Commission Rule 210.76(a) (19 CFR 210.76(a)) are satisfied. Accordingly, the Commission has determined to grant the petition to rescind the consent orders issued against the Consent Order Respondents. The Commission Order issued concurrently herewith rescinds those consent orders. The rescission proceeding is terminated.

The Commission vote for this determination took place on October 30, 2024.

The authority for the Commission's determination is contained in section 337 of the Tariff Act of 1930, as amended (19 U.S.C. 1337), and in part 210 of the Commission's Rules of Practice and Procedure (19 CFR part 210).

By order of the Commission.
Issued: October 31, 2024.
Lisa Barton,
Secretary to the Commission.

[FR Doc. 2024-25694 Filed 11-4-24; 8:45 am]

BILLING CODE 7020-02-P